DEPARTMENT OF HEALTH AND HUMAN SERVICES

Centers for Disease Control and Prevention

The Centers for Disease Control and Prevention (CDC), Food and Drug Administration (FDA), and National Institutes of Health (NIH) Announce An Open Meeting Concerning Antimicrobial Resistance

Name: A Public Health Action Plan to Combat Antimicrobial Resistance (Part I: Domestic Issues): Meeting for Public Comment on the Antimicrobial Resistance Interagency Task Force Annual Report.

Times and Dates: 12:30 p.m.--2 p.m., Wednesday, June 25, 2008.

Place: Hyatt Regency Bethesda, Bethesda, Maryland, One Bethesda Metro Center (7400 Wisconsin Ave), Bethesda, Maryland, USA 20814; Tel: 1-301-652-2000; Fax: 1-301-652-4525).

Status: Open to the public, limited only by the space available.

Purpose: To present the annual report of progress by Federal agencies in accomplishing activities outlined in A Public Health Action Plan to Combat Antimicrobial Resistance (Part I: Domestic Issues) and solicit comments from the public regarding the annual report. The Action Plan serves as a blueprint for activities of Federal agencies to address antimicrobial resistance. The focus of the plan is on domestic issues.

Matters to be Discussed: The agenda will consist of welcome and introductory comments, an executive summary, and brief reports in four focus areas: Surveillance, Prevention and Control, Research, and Product Development. The Task Force will also provide a brief review of progress on updating the Action Plan. The meeting will then be open for comments from the general public.

Comments and suggestions from the public for Federal agencies related to each of the focus areas will be taken under advisement by the Antimicrobial Resistance Interagency Task Force. The agenda does not include development of consensus positions, guidelines, or discussions or endorsement of specific commercial products.

The Action Plan, Annual Report, and meeting agenda will be available at http://www.cdc.gov/drugresistance. The public meeting is sponsored by the CDC, FDA, and NIH in collaboration with seven other Federal agencies and departments that were involved in developing and writing A Public Health Action Plan to Combat Antimicrobial Resistance (Part I: Domestic Issues).

Agenda items are subject to change as priorities dictate.

Limited time will be available for oral comments, and suggestions from the public. Depending on the number wishing to comment, a time limit of three minutes may be imposed. In the interest of time, visual aids will not be permitted, although written material may be submitted for subsequent review by the Task Force. Written comments and suggestions from the public are encouraged and should be received by the contact person listed below prior to the opening of the meeting or no later than the end of July 2008.

Persons anticipating attending the meeting are requested to send written notification to the contact person below by June 2, 2008, including name, organization (if applicable), address, telephone, fax, and e-mail address.

Contact Person for More Information: Gregory J. Anderson, Office of Antimicrobial Resistance, CCID/CDC, Mailstop A-07, 1600 Clifton Road, NE., Atlanta, GA 30333; telephone 404-639-3539; fax 404-639-7444. E-mail: gca5@cdc.gov.

Dated: March 11, 2008.
James D. Seligman,
Chief Information Officer, Centers for Disease Control and Prevention (CDC).

[FR Doc. E8-5858 Filed 3-21-08; 8:45 am]

BILLING CODE 4163-18-P